DEPARTMENT OF HOMELAND SECURITY

Federal Emergency Management Agency

[Docket ID FEMA-2018-0002; Internal Agency Docket No. FEMA-B-1807]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with the Code of Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: February 5, 2018.
Roy E. Wright,
Deputy Associate Administrator for Insurance and Mitigation, Department of Homeland Security, Federal Emergency Management Agency.

State and county | Location and case No. | Chief executive officer of community | Community map repository | Online location of letter of map revision | Date of modification | Community No.
Alabama: Cullman | Unincorporated areas of Cullman County (17-04-5897P) | The Honorable Kenneth Walker, Chairman, Cullman County Board of Commissioners, 500 2nd Avenue Southwest, Cullman, AL 35055 | Cullman County Courthouse, 500 2nd Avenue Southwest, Cullman, AL 35055 | https://msc.fema.gov/portal/advanceSearch | Apr. 27, 2018 | 010247
Arkansas: Benton | City of Lowell (17-06-3879P) | The Honorable Eldon Long, Mayor, City of Lowell, 216 North Lincoln Street, Lowell, AR 72745 | City Hall, 216 North Lincoln Street, Lowell, AR 72745 | https://msc.fema.gov/portal/advanceSearch | Apr. 23, 2018 | 050342
Colorado:
Jefferson | City of Lakewood (17-08-0933P) | The Honorable Adam A. Paul, Mayor, City of Lakewood, 470 South Allison Parkway, Lakewood, CO 80226 | Engineering Department, 470 South Allison Parkway, Lakewood, CO 80226 | https://msc.fema.gov/portal/advanceSearch | Apr. 20, 2018 | 085075
Jefferson | Unincorporated areas of Jefferson County (17-08-0933P) | The Honorable Libby Szabo, Chair, Jefferson County, Board of Commissioners, 100 Jefferson County Parkway, Suite 5550, Golden, CO 80419 | Jefferson County Planning and Zoning Division, 100 Jefferson County Parkway, Suite 3550, Golden, CO 80419 | https://msc.fema.gov/portal/advanceSearch | Apr. 20, 2018 | 080087
Weld | Town of Windsor (17-08-0666P) | Mr. Kelly Arnold, Manager, Town of Windsor, 301 Walnut Street, Windsor, CO 80550 | Town Hall, 301 Walnut Street, Windsor, CO 80550 | https://msc.fema.gov/portal/advanceSearch | Apr. 30, 2018 | 080264
Weld | Unincorporated areas of Weld County (17-08-0666P) | The Honorable Julie Cozad, Chair, Weld County Board of County Commissioners, P.O. Box 758, Greeley, CO 80632 | Weld County Commissioner's Office, 915 10th Street, Greeley, CO 80632 | https://msc.fema.gov/portal/advanceSearch | Apr. 30, 2018 | 080266
Florida:
Charlotte | Unincorporated areas of Charlotte County (18-04-0115P) | The Honorable Bill Truex, Chairman, Charlotte County Board of Commissioners, 18500 Murdock Circle, Suite 536, Port Charlotte, FL 33948 | Charlotte County Community Development Department, 18400 Murdock Circle, Port Charlotte, FL 33948 | https://msc.fema.gov/portal/advanceSearch | Apr. 20, 2018 | 120061
Collier | Unincorporated areas of Collier County (18-04-0104P) | The Honorable Penny Taylor, Chair, Collier County Board of Commissioners, 3299 East Tamiami Trail, Suite 303, Naples, FL 34112 | Collier County Administrative Building, 3301 East Tamiami Trail, Building F, 1st Floor, Naples, FL 34112 | https://msc.fema.gov/portal/advanceSearch | Apr. 27, 2018 | 120067
Monroe | Unincorporated areas of Monroe County (18-04-0288P) | The Honorable David Rice, Mayor, Monroe County Board of Commissioners, 500 Whitehead Street, Suite 102, Key West, FL 33040 | Monroe County Building Department, 2798 Overseas Highway, Suite 300, Key West, FL 33050 | https://msc.fema.gov/portal/advanceSearch | Apr. 26, 2018 | 125129
Monroe | Unincorporated areas of Monroe County (18-04-0313P) | The Honorable David Rice, Mayor, Monroe County Board of Commissioners, 500 Whitehead Street, Suite 102, Key West, FL 33040 | Monroe County Building Department, 2798 Overseas Highway, Suite 300, Key West, FL 33050 | https://msc.fema.gov/portal/advanceSearch | Apr. 30, 2018 | 125129
Osceola | City of St. Cloud (17-04-5506P) | The Honorable Nathan Blackwell, Mayor, City of St. Cloud, 1300 9th Street, St. Cloud, FL 34769 | Public Works Department, 1300 9th Street, St. Cloud, FL 34769 | https://msc.fema.gov/portal/advanceSearch | Apr. 30, 2018 | 125191
Georgia:
Hall | City of Flowery Branch (17-04-5316P) | The Honorable James “Mike” Miller, Mayor, City of Flowery Branch, P.O. Box 757, Flowery Branch, GA 30542 | Community Development Department, 5512 Main Street, Flowery Branch, GA 30542 | https://msc.fema.gov/portal/advanceSearch | Apr. 30, 2018 | 130333
Hall | Unincorporated areas of Hall County (17-04-5316P) | The Honorable Richard Higgins, Chairman, Hall County Board of Commissioners, P.O. Drawer 1435, Gainesville, GA 30504 | Hall County Engineering Division, 2875 Browns Bridge Road, Gainesville, GA 30504 | https://msc.fema.gov/portal/advanceSearch | Apr. 30, 2018 | 130466
Houston | City of Warner Robins (17-04-4313P) | The Honorable Randy Toms, Mayor, City of Warner Robins, 700 Watson Boulevard, Warner Robins, GA 31093 | Engineering Department, 610B Watson Boulevard, Warner Robins, GA 31093 | https://msc.fema.gov/portal/advanceSearch | Apr. 19, 2018 | 130111
Tift | City of Tifton (17-04-7716P) | The Honorable Julie Smith, Mayor, City of Tifton, 130 1st Street East, Tifton, GA 31793 | Public Works Department, 1000 Armour Road, Tifton, GA 31794 | https://msc.fema.gov/portal/advanceSearch | Apr. 30, 2018 | 130171
Tift | Unincorporated areas of Tift County (17-04-7716P) | The Honorable Grady Thompson, Chairman, Tift County Commission, 225 North Tift Avenue, Tifton, GA 31794 | Tift County Development Support Services Department, 225 North Tift Avenue, Tifton, GA 31794 | https://msc.fema.gov/portal/advanceSearch | Apr. 30, 2018 | 130404
Louisiana: Lafayette | Unincorporated areas of Lafayette Parish (17-06-3167P) | The Honorable Joel Robideaux, Mayor-President, Lafayette Consolidated, Government, P.O. Box 4017-C, Lafayette, LA 70502 | Lafayette Parish Department of Planning and Development, 220 West Willow Street, Building B, Lafayette, LA 70501. | https://msc.fema.gov/portal/advanceSearch | Apr. 16, 2018 | 220101
New Mexico:
Bernalillo | Unincorporated areas of Bernalillo County (17-06-3952P) | Ms. Julie Morgas Baca, Manager, Bernalillo County, 1 Civic Plaza Northwest, Albuquerque, NM 87102 | Bernalillo County Public Works Division, 2400 Broadway Southeast, Albuquerque, NM 87102 | https://msc.fema.gov/portal/advanceSearch | Apr. 6, 2018 | 350001
Sierra | City of Truth or Consequences (17-06-2009P) | Mr. Juan Fuentes, Manager, City of Truth or Consequences, 505 Sims Street, Truth or Consequences, NM 87901 | City Hall, 505 Sims Street, Truth or Consequences, NM 87901 | https://msc.fema.gov/portal/advanceSearch | Apr. 23, 2018 | 350073
Sierra | Unincorporated areas of Sierra County (17-06-2009P) | The Honorable Kenneth Lyon, Chairman, Sierra County Commission, 855 Van Patten Street, Truth or Consequences, NM 87901 | Sierra County Administration Office, 855 Van Patten Street, Truth or Consequences, NM 87901 | https://msc.fema.gov/portal/advanceSearch | Apr. 23, 2018 | 350071
Sierra | Village of Williamsburg (17-06-2009P) | The Honorable Deb Stubblefield, Mayor, Village of Williamsburg, P.O. Box 150, Williamsburg, NM 87942 | Sierra County Administration Office, 855 Van Patten Street, Truth or Consequences, NM 87901 | https://msc.fema.gov/portal/advanceSearch | Apr. 23, 2018 | 350074
Oklahoma:
Tulsa | City of Bixby (17-06-2611P) | The Honorable John Easton, Mayor, City of Bixby, P.O. Box 70, Bixby, OK 74008 | Planning Department, 116 West Needles, Bixby, OK 74008 | https://msc.fema.gov/portal/advanceSearch | Apr. 9, 2018 | 400207
Tulsa | City of Tulsa (17-06-2611P) | The Honorable G. T. Bynum, Mayor, City of Tulsa, 175 East 2nd Street, 15th Floor, Tulsa, OK 74103 | Planning and Development Department, 175 East 2nd Street, Tulsa, OK 74103 | https://msc.fema.gov/portal/advanceSearch | Apr. 9, 2018 | 405381
Pennsylvania: Lycoming | Borough of, South Williamsport (17-03-1817P) | The Honorable J. Bernard Schelb, President, Borough of, South Williamsport Council, 329 West Southern Avenue, South Williamsport, PA 17702 | Planning and Community Development Department, Hazard Mitigation Division, 48 West 3rd Street, South Williamsport, PA 17701 | https://msc.fema.gov/portal/advanceSearch | Apr. 12, 2018 | 420658
South Carolina:
Charleston | City of Charleston (17-04-7085P) | The Honorable John J. Tecklenburg, Mayor, City of Charleston, P.O. Box 652, Charleston, SC 29402 | Engineering Division, 2 George Street, Charleston, SC 29401 | https://msc.fema.gov/portal/advanceSearch | Apr. 30, 2018 | 455412
Lancaster | Unincorporated areas of Lancaster County (17-04-5698P) | The Honorable Steve Harper, Chairman, Lancaster County Council, 101 North Main Street, 2nd Floor, Lancaster, SC 29721 | Lancaster County Zoning Department, 101 North Main Street, Lancaster, SC 29721 | https://msc.fema.gov/portal/advanceSearch | Apr. 23, 2018 | 450120
Tennessee: Williamson | City of Franklin (17-04-8021P) | The Honorable Ken Moore, Mayor, City of Franklin, 109 3rd Avenue South, Franklin, TN 37064 | Building and Neighborhood Services Department, 109 3rd Avenue South, Franklin, TN 37064 | https://msc.fema.gov/portal/advanceSearch | Apr. 13, 2018 | 470206
Texas:
Denton | City of Denton (17-06-0580P) | The Honorable Chris A. Watts, Mayor, City of Denton, 215 East McKinney Street, Denton, TX 76201 | Engineering Department, 901-A Texas Street, Denton, TX 76509 | https://msc.fema.gov/portal/advanceSearch | May 4, 2018 | 480194
Harris | Unincorporated areas of Harris County (17-06-4282P) | The Honorable Edward M. Emmett, Harris County Judge, 1001 Preston Street, Suite 911, Houston, TX 77002 | Harris County Permit Office, 10555 Northwest Freeway, Suite 120, Houston, TX 77092 | https://msc.fema.gov/portal/advanceSearch | Apr. 30, 2018 | 480287
Medina | Unincorporated areas of Medina County (17-06-3375P) | The Honorable Chris Schuchart, Medina County Judge, 1502 Avenue K, Hondo, TX 78861 | Medina County Environmental Health Department, 709 Avenue Y, Hondo, TX 78861 | https://msc.fema.gov/portal/advanceSearch | Feb. 22, 2018 | 480472
Tarrant | City of Fort Worth (17-06-2262P) | The Honorable Betsy Price, Mayor, City of Fort Worth, 200 Texas Street, Fort Worth, TX 76102 | Transportation and Public Works Department, 200 Texas Street, Fort Worth, TX 76102 | https://msc.fema.gov/portal/advanceSearch | Apr. 9, 2018 | 480596
Tarrant | City of Fort Worth (17-06-4080P) | The Honorable Betsy Price, Mayor, City of Fort Worth, 200 Texas Street, Fort Worth, TX 76102 | Transportation and Public Works Department, 200 Texas Street, Fort Worth, TX 76102 | https://msc.fema.gov/portal/advanceSearch | Apr. 27, 2018 | 480596
Tarrant | City of River Oaks (17-06-4080P) | The Honorable Herman Earwood, Mayor, City of River Oaks, 4900 River Oaks Boulevard, River Oaks, TX 76114 | City Hall, 4900 River Oaks Boulevard, River Oaks, TX 76114 | https://msc.fema.gov/portal/advanceSearch | Apr. 27, 2018 | 480609
Tarrant | City of Sansom Park (17-06-4080P) | The Honorable Jim Barnett, Jr., Mayor, City of Sansom Park, 5705 Azle Avenue, Sansom Park, TX 76114 | City Hall, 5705 Azle Avenue, Sansom Park, TX 76114 | https://msc.fema.gov/portal/advanceSearch | Apr. 27, 2018 | 480611
Tarrant | City of Westworth Village (17-06-2290P) | The Honorable Michael R. Coleman, Mayor, City of Westworth Village, 311 Burton Hill Road, Westworth Village, TX 76114 | City Hall, 311 Burton Hill Road, Westworth Village, TX 76114 | https://msc.fema.gov/portal/advanceSearch | Apr. 5, 2018 | 480616
Travis | City of Bee Cave (17-06-2595P) | The Honorable Caroline Murphy, Mayor, City of Bee Cave, 4000 Galleria Parkway, Bee Cave, TX 78738 | Department of Planning and Development, 4000 Galleria Parkway, Bee Cave, TX 78738 | https://msc.fema.gov/portal/advanceSearch | Apr. 12, 2018 | 480610
Travis | City of Pflugerville (17-06-3700P) | The Honorable Victor Gonzales, Mayor, City of Pflugerville, P.O. Box 589, Pflugerville, TX 78691 | Development Services Department, 201-B East Pecan Street, Pflugerville, TX 78691 | https://msc.fema.gov/portal/advanceSearch | Apr. 9, 2018 | 481028
Travis | Unincorporated areas of Travis County (17-06-2595P) | The Honorable Sarah Eckhardt, Travis County Judge, P.O. Box 1748, Austin, TX 78767 | Travis County Transportation and Natural Resources Division, 700 Lavaca Street, Suite 540, Austin, TX 78701 | https://msc.fema.gov/portal/advanceSearch | Apr. 12, 2018 | 481026
Utah: Cache | City of Hyrum (17-08-0954P) | The Honorable Stephanie Miller, Mayor, City of Hyrum, 60 West Main Street, Hyrum, UT 84319 | City Hall, 60 West Main Street, Hyrum, UT 84319 | https://msc.fema.gov/portal/advanceSearch | Apr. 25, 2018 | 490017
Virginia: Prince William | Unincorporated areas of Prince William County (17-03-1502P) | Mr. Christopher E. Martino, Prince William County Executive, 1 County Complex Court, Woodbridge, VA 22192 | Prince William County Department of Public Works, 5 County Complex Court, Suite 170, Woodbridge, VA 22192 | https://msc.fema.gov/portal/advanceSearch | Apr. 26, 2018 | 510119

[FR Doc. 2018-03077 Filed 2-13-18; 8:45 am]

BILLING CODE 9110-12-P